DEPARTMENT OF ENERGY

Federal Energy Regulatory Commission

Combined Notice of Filings

Take notice that the Commission has received the following Natural Gas Pipeline Rate and Refund Report filings:

Filings Instituting Proceedings

Docket Numbers: RP15-255-000.

Applicants: Chesapeake Energy Marketing, L.L.C.,SND Operating, LLC.

Description: Joint Petition for Limited Waiver and Expedited Action of Chesapeake Energy Marketing, L.L.C. and SND Operating, LLC.

Filed Date: 12/9/14.

Accession Number: 20141209-5153.

Comments Due: 5 p.m. ET 12/19/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR13-63-001.

Applicants: American Midstream (SIGCO Intrastate), LLC.

Description: Tariff filing per 284.123/.224: Compliance Filing (PR13-63) to be effective 12/5/2014; TOFC: 790.

Filed Date: 12/5/14.

Accession Number: 50141205-5197.

Comments Due: 5 p.m. ET 12/26/14.

284.123(g) Protests Due:

Docket Numbers: RP15-101-002.

Applicants: Florida Gas Transmission Company, LLC.

Description: Compliance filing per 154.203: Comply with RP15-101 Order regarding GTC 10 to be effective 12/1/2014.

Filed Date: 12/9/14.

Accession Number: 20141209-5187.

Comments Due: 5 p.m. ET 12/22/14.

Docket Numbers: RP15-167-001.

Applicants: High Island Offshore System, L.L.C.

Description: Compliance filing per 154.203: Capacity Release Amendment Filing to be effective 10/16/2014.

Filed Date: 12/9/14.

Accession Number: 20141209-5128.

Comments Due: 5 p.m. ET 12/22/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2014.
Nathaniel J. Davis, Sr.,
Deputy Secretary.

[FR Doc. 2014-29528 Filed 12-16-14; 8:45 am]

BILLING CODE 6717-01-P